U.S.-CHINA ECONOMIC AND SECURITY REVIEW COMMISSION

Notice of Open Public Hearing and Roundtable Discussion

AGENCY: U.S.-China Economic and Security Review Commission.

ACTION: Notice of open public hearing and roundtable discussion—February 25, 2011, Washington, DC.

SUMMARY: Notice is hereby given of the following hearing and roundtable discussion of the U.S.-China Economic and Security Review Commission.

Name: William A. Reinsch, Chairman of the U.S.-China Economic and Security Review Commission.

The Commission is mandated by Congress to investigate, assess, and report to Congress annually on “the national security implications of the economic relationship between the United States and the People's Republic of China.”

Pursuant to this mandate, the Commission will hold a public hearing and roundtable discussion in Washington, DC on February 25, 2011, to address “China's Internal Dilemmas.”

Background: This is the second public hearing the Commission will hold during its 2011 report cycle to collect input from leading academic, industry, and government experts on national security implications of the U.S. bilateral trade and economic relationship with China. The February 25 hearing and roundtable discussion will examine China's domestic economic, social and security issues and how the Chinese government is addressing them. The February 25 hearing and roundtable will be co-chaired by Chairman William A. Reinsch and Commissioner Robin Cleveland.

Any interested party may file a written statement by February 25, 2011, by mailing to the contact below. On February 25, the hearing will be held in the morning, and the roundtable discussion will be held in the afternoon. A portion of each panel will include a question and answer period between the Commissioners and the witnesses.

Transcripts of past Commission public hearings may be obtained from the USCC Web Site http://www.uscc.gov.

Date and Time: Friday, February 25, 2011, 8:45 a.m. to 2:30 p.m. Eastern Standard Time. A detailed agenda for the hearing and roundtable will be posted to the Commission's Web Site at http://www.uscc.gov as soon as available.

ADDRESSES: The hearing will be held on Capitol Hill in Room 562 of the Dirksen Senate Office Building, and the roundtable discussion will be held in Room116 of the same building. Dirksen Senate Office Building is located at Constitution Avenue and 1st Street, NE., in Washington, DC 20002. Public seating is limited to about 50 people on a first come, first served basis. Advance reservations are not required.

FOR FURTHER INFORMATION CONTACT: Any member of the public seeking further information concerning the hearing and roundtable should contact Michael Danis, Executive Director for the U.S.-China Economic and Security Review Commission, 444 North Capitol Street, NW., Suite 602, Washington, DC 20001; phone: 202-624-1407, or via e-mail at contact@uscc.gov.

Authority: Congress created the U.S.-China Economic and Security Review Commission in 2000 in the National Defense Authorization Act (Pub. L. 106-398), as amended by Division P of the Consolidated Appropriations Resolution, 2003 (Pub. L. 108-7), as amended by Public Law 109-108 (November 22, 2005).

Dated: February 14, 2011.
Michael Danis,
Executive Director, U.S.-China Economic and Security Review Commission.

[FR Doc. 2011-3677 Filed 2-17-11; 8:45 am]

BILLING CODE 1137-00-P